FEDERAL MARITIME COMMISSION

Ocean Transportation Intermediary License; Revocation

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 2160F.

Name: Shirley De Sinclair dba Sincl-Air Maritime Service.

Address: 2336 Stranahan Drive, Alhambra, CA 90803.

Date Revoked: September 19, 2011.

Reason: Failed to maintain a valid bond.

License Number: 2391F.

Name: Leonel Silva dba Best Forwarders.

Address: 411 North Oak Street, Inglewood, CA 90302.

Date Revoked: September 22, 2011.

Reason: Failed to maintain a valid bond.

License Number: 2442F.

Name: Williams International, Inc.

Address: 3443 Rivers Avenue, Charleston, SC 29405.

Date Revoked: September 24, 2011.

Reason: Failed to maintain a valid bond.

License Number: 3242F.

Name: H.L.M. Intertrans, Corp.

Address: 8355 N.W. 74th Street, Miami, FL 33166.

Date Revoked: September 10, 2011.

Reason: Failed to maintain a valid bond.

License Number: 003874NF.

Name: World Project Services International, Inc.

Address: 650 East North Sam Houston Parkway, Suite 231, Houston, TX 77060.

Date Revoked: September 17, 2011.

Reason: Failed to maintain valid bonds.

License Number: 4646NF.

Name: Choiceone Logistics, Inc.

Address: 10025 NW 116th Way, Medley, FL 33178.

Date Revoked: September 19, 2011.

Reason: Failed to maintain valid bonds.

License Number: 018784N.

Name: Champion Cargo Services, LLC.

Address: 9523 Jamacha Blvd., Spring Valley, CA 91977.

Date Revoked: September 22, 2011.

Reason: Failed to maintain a valid bond.

License Number: 019041N.

Name: Grupo Delpa Corp.

Address: 7970 NW 56th Street, Miami, FL 33166.

Date Revoked: August 30, 2011.

Reason: Failed to maintain a valid bond.

License Number: 020832F.

Name: Orca Int'l Freight Forwarders Inc.

Address: 6993 NW 50th Street, Miami, FL 33166.

Date Revoked: September 14, 2011.

Reason: Failed to maintain a valid bond.

License Number: 020727N.

Name: Grand Power Express International (USA) Corp.

Address: 654 North Spring Street, Los Angeles, CA 90012.

Date Revoked: September 10, 2011.

Reason: Failed to maintain a valid bond.

License Number: 021370NF.

Name: Encargo Export Corporation dba Encargo Lines dba Encargo Logistics.

Address: 10800 NW 103 Street, Suite 5-E, Miami, FL 33178.

Date Revoked: September 17, 2011.

Reason: Failed to maintain valid bonds.

License Number: 021659N.

Name: Alto Air Freight, Inc.

Address: 145 Hook Creek Blvd., Bldg. B-6-A, Valley Stream, NY 11581.

Date Revoked: September 21, 2011.

Reason: Failed to maintain a valid bond.

License Number: 022686N.

Name: Razak Logistics, Inc.

Address: 28451 Ficus Court, Murrieta, CA 92563.

Date Revoked: September 9, 2011.

Reason: Failed to maintain a valid bond.

Sandra L. Kusumoto,
Director, Bureau of Certification and Licensing.

[FR Doc. 2011-27123 Filed 10-19-11; 8:45 am]

BILLING CODE 6730-01-P